DEPARTMENT OF COMMERCE

International Trade Administration

[A-570-502]

Iron Construction Castings from the People's Republic of China: Rescission of Antidumping Duty Administrative Review

AGENCY: Import Administration, International Trade Administration, U.S. Department of Commerce

SUMMARY: : In response to a timely request from an interested party, the Department of Commerce (the Department) initiated an administrative review of the antidumping duty order on iron construction castings (castings) from the People's Republic of China (PRC). See Initiation of Antidumping and Countervailing Duty Administrative Reviews and Request for Revocation in Part, 68 FR 39055 (July 1, 2003)(Initiation Notice). This review covers the period May 1, 2002 through April 30, 2003. Powin Corporation (Powin), the U.S. importer which requested the administrative review, has now withdrawn its request for an administrative review. Accordingly, the Department is rescinding this review in accordance with section 351.213(d)(1) of the Department's regulations.

EFFECTIVE DATE: November 7, 2003.

FOR FURTHER INFORMATION CONTACT: Sean Carey, AD/CVD Enforcement Group III, Office 7, Import Administration, International Trade Administration, U.S. Department of Commerce, 14th Street and Constitution Avenue, N.W., Washington D.C. 20230; telephone (202) 482-3964.

SUPPLEMENTARY INFORMATION:

Background

The Department published in the Federal Register an antidumping duty order on castings from the PRC on May 9, 1986. See Antidumping Duty Order: Iron Construction Castings from the People's Republic of China, 51 FR 17222 (May 9, 1986). On May 29, 2003, the Department received a timely request from Powin, a U.S. importer, for an administrative review of the PRC exporter of subject merchandise, Shandong Himight Machinery Co., Ltd. (Shandong Himight). The Department published its initiation of administrative review on July 1, 2003. See Initiation Notice.

On July 24, 2003, counsel for Powin entered an appearance on behalf of Weifang Fangzi Tongbao Foundry and Weifang Fangzi Mucun Foundry, producers of subject merchandise, and Shandong Machinery I/E Corp., a company which facilitated Shandong Himight's exports to the United States. On July 25, 2003, the Department issued its antidumping duty questionnaire. The Department extended the deadline for the questionnaire response on September 3 and again on September 16, 2003 pursuant to Powin's request for an extension of the deadline. In a letter to the Department filed September 30, 2003, Powin withdrew its request for an administrative review.

Rescission of Antidumping Duty Administrative Review of Castings

The Department is rescinding the antidumping duty administrative review of Powin, covering the period May 1, 2002 through April 30, 2003, in accordance with section 351.213(d)(1) of the Department's regulations. Although Powin's withdrawal request for this review was not within the normal time limit as prescribed in section 351.213(d)(1) of the Department's regulations, we find that, under the circumstances of this review, it is appropriate to accept the withdrawal request and rescind the review with respect to Shandong Himight.

According to section 351.213(d)(1) of the Department's regulations, the Department will rescind an administrative review “if a party that requested the review withdraws the request within 90 days of the date of publication of notice of initiation of the requested review.” The regulations further provide that the Secretary “may extend this time limit if the Secretary decides that it is reasonable to do so.” In the instant case, Powin's withdrawal request was not filed within the 90-day time limit. However, the Department has determined that rescinding the review is appropriate since continuing the review would only require Powin, the domestic industry and the Department to expend time and resources on a review in which the only party that requested the review is no longer interested. Powin has not filed a questionnaire response with respect to Shandong Himight, and the Department has neither released supplemental questionnaires nor conducted verification at this point in the proceeding. Accordingly, the Department does not believe the administrative review has proceeded to a point at which it would be “unreasonable” to rescind the review.

The Department, therefore, determines that it is reasonable to extend the 90-day time limit and to rescind the administrative review for the period May 1, 2002 through April 30, 2003. The Department will issue appropriate assessment instructions directly to the U.S. Customs and Border Protection (Customs) within 15 days of publication of this notice. The Department will direct Customs to assess antidumping duties for this company at the cash deposit rate in effect on the date of entry for entries during the period May 1, 2002 through April 30, 2003.

Notification to Importers

This notice serves as a final reminder to importers of their responsibility under section 351.402(f) of the Department's regulations to file a certificate regarding the reimbursement of antidumping duties prior to liquidation of the relevant entries during this review period. Failure to comply with this requirement could result in the Secretary's presumption that reimbursement of antidumping duties occurred and subsequent assessment of double antidumping duties. The Department will issue appropriate assessment instructions to the U.S. Bureau of Customs and Border Protection.

This determination and notice are issued and published in accordance with 19 CFR 351.213(d)(4) and sections 751(a)(1) and 777(i)(1) of the Act.

Dated: October 28, 2003.
James J. Jochum,
Assistant Secretary for Import Administration.

[FR Doc. 03-28122 Filed 11-6-03; 8:45 am]

BILLING CODE 3510-DS-S